DEPARTMENT OF THE INTERIOR

Bureau of Land Management

[BLM_NV_FRN_MO4500177742]

Notice of Availability of the Draft Environmental Impact Statement for Nevada Gold Mines LLC's Robertson Mine Project, Lander County, NV

AGENCY: Bureau of Land Management, Interior.

ACTION: Notice of availability.

SUMMARY: In accordance with the National Environmental Policy Act of 1969, as amended (NEPA), and the Federal Land Policy and Management Act of 1976, as amended (FLPMA), the Bureau of Land Management (BLM) announces the availability of the Draft Environmental Impact Statement (EIS) for Nevada Gold Mines LLC (NGM) Robertson Mine Project in Lander County, Nevada.

DATES: To afford the BLM the opportunity to consider comments in the Final EIS, please ensure that the BLM receives your comments within 45 days following the date the Environmental Protection Agency (EPA) publishes its Notice of Availability (NOA) of the Draft EIS in the Federal Register. The EPA usually publishes its NOAs on Fridays.

The BLM will announce the date of a public meeting on the Draft EIS at least 15 days in advance of the meeting on the BLM National NEPA Register website https://eplanning.blm.gov/eplanning-ui/project/2023088/510. One public meeting will be held in-person in Crescent Valley, Nevada and a second will be held virtually online.

ADDRESSES: The Draft EIS and documents pertinent to this proposal are available for review on the BLM National NEPA Register website at https://eplanning.blm.gov/eplanning-ui/project/2023088/510.

Written comments related to the Robertson Mine Project may be submitted by any of the following methods:

• Website: https://eplanning.blm.gov/eplanning-ui/project/2023088/510.

• Email: BLM_NV_BMDO_P&EC_NEPA@blm.gov.

• Mail: Robertson Mine EIS c/o BLM Mount Lewis Field Office, 50 Bastian Road, Battle Mountain, Nevada 89820.

• By fax at: (775) 635-4034.

FOR FURTHER INFORMATION CONTACT: Gene Gilseth, Project Manager, telephone: (775) 635-4020; address 50 Bastian Road, Battle Mountain, Nevada 89820; email: egilseth@blm.gov. Individuals in the United States who are deaf, deafblind, hard of hearing, or have a speech disability may dial 711 (TTY, TDD, or TeleBraille) to access telecommunication relay services for contacting Mr. Gilseth. Individuals outside the United States should use the relay services offered within their country to make international calls to the point-of-contact in the United States.

SUPPLEMENTARY INFORMATION:

Purpose and Need for the Proposed Action

The BLM's purpose is to respond to NGM's proposal, as described in its proposed Plan of Operations, and to analyze the potential environmental effects associated with the Proposed Action, which is the operator's proposed Plan of Operations, and alternatives to the Proposed Action. NEPA mandates that the BLM evaluate the potential effects of the Proposed Action and alternatives. The BLM's need for the action is established by the BLM's responsibilities under Section 302 of FLPMA and the BLM Surface Management Regulations at 43 CFR subpart 3809 to respond to a proposed Plan of Operations and ensure that operations prevent unnecessary or undue degradation of the public lands.

Proposed Action and Alternatives

NGM is proposing to construct, operate, close, and reclaim a new surface mine within the Shoshone Range approximately 58 miles southeast of Battle Mountain, Nevada, and 70 miles southwest of Elko, Nevada. The Proposed Action would result in changes to the authorized Robertson Exploration Plan boundary (NVN-067688), the Cortez Mine Plan boundary (NVN-67575), and the Pipeline-South Pipeline-Gold Acres Exploration Plan boundary (NVN-067261). If the Robertson Mine Project Plan is approved, these authorized plans would be modified subsequent to that approval.

The Robertson Mine Project would employ a contractor workforce of approximately 150 employees during the initial two-year construction period and approximately 415 full-time employees, comprised of approximately 370 existing Cortez Mine employees and 45 new hires, for the operations period.

The Robertson Mine Project would operate 24 hours per day, 365 days per year. The total life of the Robertson Mine Project would be 15 years, including 9 years of mining, 3 additional years of ore processing, and 3 additional years of reclamation. Reclamation of disturbed areas resulting from mining operations would be completed in accordance with BLM and Nevada Division of Environmental Protection regulations. Concurrent reclamation would take place where practicable and safe.

The proposed Plan of Operations would result in approximately 4,234 acres of new surface disturbance, of which 179 acres would be on private land and 4,055 acres would be on public land administered by the BLM.

The proposed Plan of Operations boundary would encompass 5,990 acres. The total disturbance associated with the Proposed Action, including existing, reclassified, and exploration, would be 4,306 acres, with 4,127 acres on land administered by the BLM and 179 acres on private land. The proposed surface mining activities for the Robertson Mine would include:

• Three open pits (Gold Pan, Porphyry, and Altenburg Hill) and associated haul roads;

• A Waste Rock Facility;

• A Heap Leach Facility including a lined pad, process solution ponds and vaults, and carbon-in-column plant;

• Ancillary facilities including a three-stage crushing system with associated conveyors; ore stockpiles; growth media stockpiles; a gravel borrow source; secondary roads; stormwater controls and diversions; truck scale; power lines and electrical substations; water production, dewatering, and monitoring wells; water pipelines and loadouts; ready lines; fuel and reagent storage; fueling facilities; laydown yards; wildlife and range fencing; assay laboratory; trailers; buildings; and communications sites;

• Shared facilities with the Pipeline Complex at the Cortez Mine, including but not limited to haul roads, potable water well, water pipelines, warehousing and maintenance shops, hazardous waste storage, petroleum-contaminated soils facility, ore stockpiles, the Pipeline Mill, carbon handling, refinery, laboratory, and Pipeline Area 28 tailings storage facility; and

• Modifying the authorized Robertson Exploration Plan (NVN-067688) (Exploration Plan) boundary.

The Partial Backfill Alternative and No Action Alternative are described in the Draft EIS. Under the Partial Backfill Alternative, the Gold Pan Pit would be backfilled to prevent the establishment of a post-mining pit lake. All other aspects of the Partial Backfill Alternative are the same as those described for the Proposed Action. Under the No Action Alternative, the development of the Robertson Mine Project would not be authorized and NGM would not construct, operate, and close a new surface mine. Modifications to the Exploration Plan boundary, the Cortez Mine Plan boundary, and the Pipeline-South Pipeline-Gold Acres Exploration Plan boundary would not occur.

Draft EIS Review Process

On August 18, 2023, a Notice of Intent to prepare an EIS was published in the Federal Register, announcing the beginning of the public scoping process. The BLM held virtual public scoping meetings for the Robertson Mine Project on August 31 and September 1, 2023. During the scoping period, 30 comment documents were received containing a total of 141 individual comments.

This Notice of Availability initiates the draft EIS review process. There will be a 45-day public comment period. Public meetings to discuss the draft EIS will be announced. The date and times of the meetings will be posted on the BLM's Robertson Mine Project website.

The purpose of public review of the draft EIS is to provide an opportunity for meaningful collaborative public engagement and for the public to provide substantive comments, such as identification of factual errors, data gaps, relevant methods, or scientific studies. The BLM will respond to substantive comments by making appropriate revisions to the EIS or explaining why a comment did not warrant a change.

The BLM has and will continue to use and coordinate the draft EIS review process to help fulfill the public involvement requirements under the National Historic Preservation Act (54 U.S.C. 306108) as provided in 36 CFR 800.2(d)(3). Information about historic and cultural resources within the area potentially affected by the Proposed Action will assist the BLM in identifying and evaluating impacts to such resources. The BLM will continue to consult with Indian Tribal Nations on a government-to-government basis in accordance with Executive Order 13175, BLM MS 1780, and other Departmental policies. Agencies will give due consideration to Tribal concerns, including impacts on Indian trust assets and treaty rights and potential impacts to cultural resources.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10)

Douglas W. Furtado,
District Manager, Battle Mountain District.

[FR Doc. 2024-05331 Filed 3-14-24; 8:45 am]

BILLING CODE 4331-21-P